ENVIRONMENTAL PROTECTION AGENCY

[ER-FRL-6647-6]

Environmental Impact Statements; Notice of Availability

Responsible Agency: Office of Federal Activities, General Information (202) 564-7167 or http://www.epa.gov/compliance/nepa/. Weekly receipt of Environmental Impact Statements Filed January 12, 2004 Through January 16, 2004 Pursuant to 40 CFR 1506.9.

EIS No. 040013, Final EIS, SFW, CA, Programmatic EIS—San Francisco Estuary Invasive Spartina Project, Spartina Control Program to Preserve and Restore Ecological Integrity of the Estuary's Intertidal Habitats, Alameda, Contra Costa, Marin, Napa, San Francisco and San Mateo, CA, Wait Period Ends: February 23, 2004, Contact: Mark Littlefield (916) 414-6581.

EIS No. 040014, Draft EIS, AFS, PA, Spring Creek Project Area (SCPA), To Achieve and Maintain Desired Conditions, Allegheny National Forest, Marienville Ranger District, Elk and Forest Counties, PA, Comment Period Ends: March 8, 2004, Contact: John Weyant (814) 776-6172 Ext.138

EIS No. 040015, Draft EIS, AFS, WY, Tongue Allotment Management Plan, Proposal to Continue Livestock Grazing on All or Portions of the 22 Allotment, Bighorn National Forest, Tongue and Medicine Wheel/Paintrock Ranger Districts, Johnson, Sheridan and Bighorn Counties, WY, Comment Period Ends: March 08, 2004, Contact: Craig L. Yancey (307) 674-2600.

EIS No. 040016, Final Supplement, AFS, CA, OR, Siskiyou National Forest, Land and Resource Management Plan, Implementation, Curry, Coos and Josephine Counties, OR and Del Norte County, CA, Wait Period Ends: February 23, 2004, Contact: Kenneth Denton (503) 326-2368.

The U.S. Department of Agriculture, Forest Service and the U.S. Department of the Interior, Bureau of Land Management are Joint Lead Agencies on the above Project.

This document is available on the Internet at: http://www.or.blm.gov/planning/port-orford-cedar_seis/.

EIS No. 040017, Draft EIS, SFW, CA, South Bay Salt Ponds Initial Stewardship Plan, To Maintain and Enhance the Biological and Physical Conditions, South San Francisco Bay, CA, Comment Period Ends: March 8, 2004, Contact: Margaret Kolar (510) 792-0222.

EIS No. 040018, Draft Supplement, BOP, CA, Fresno Federal Correctional Facility Development, Additional Information, Orange Cove, Fresno County, CA, Comment Period Ends: March 8, 2004, Contact: David J. Dorworth (202) 514-6470.

EIS No. 040019, Final EIS, BLM, CO, Gunnison Gorge National Conservation Area Resource Management Plan, Implementation, Montrose and Delta Counties, CO, Wait Period Ends: February 23, 2004, Contact: Bill Bottomly (970) 240-5337.

EIS No. 040020, Draft Supplement, AFS, AK, Kensington Gold Project, Proposed Modifications of the 1998 Approved Plan Operation, NPDES, ESA and U.S. COE Section 10 and 404 Permits, Tongass National Forest, City of Juneau, AK, Comment Period Ends: March 8, 2004, Contact: Steve Hohensee (907) 586-8800.

EIS No. 040021, Draft Supplement, NOA, HI, GU, AS, Pelagic Fisheries of the Western Pacific Region, Fishery Management Plan, Regulatory Amendment, Management Measures to Implement New Technologies for the Western Pacific Pelagic Longline Fisheries, Hawaii, American Samoa, Guam and Commonwealth of the Northern Mariana Island, Comment Period Ends: February 23, 2004, Contact: Alvin Katekaru (808) 973-2937. Under Section 1506.10(d) of the Council on Environmental Quality Regulations for Implementating the Procedural Provisions of the National Environmental Policy Act the U.S. Environmental Protection Agency has Granted a 15-Day Wavier for the above EIS.

This document is available on the Internet at: http://www.swr.nmfs.noaa.gov/pir/.

EIS No. 0240022, Draft EIS, AFS, AK, Commercially Guided Helicopter Skiing on the Kena, Peninsula, Issuance of a Five Year Special Use Permit, Chugach National Forest, Kenai Peninsula, AK, Comment Period Ends: March 23, 2004, Contact: Teresa Paquet (907) 754-2314. This document is available on the Internet at: http://www.fs.fed.us/r10/chugach.

EIS No. 040023, Final EIS, DOA, HI, Lahaina Watershed Flood Control Project, To Reduce Flooding and Erosion Problems, U.S. Army COE Section 404 and NPDES Permits, County of Maui, HI, Wait Period Ends: February 23, 2004, Contact: Lawrence T. Yamamoto (808) 541-2600.

EIS No. 040024, Final Supplement, AFS, CA, WA, OR, Northern Spotted Owl Management Plans, Removal or Modification of the Survey and Manage Mitigation Measure Standards and Guidelines in the Final Supplemental EIS (1994) and Final Supplement EIS (2002) for Amendments, Northwest Forest Plan, WA, CA and OR, Wait Period Ends: February 23, 2004, Contact: Jerry Hubbard (503) 326-2354.

This document is available on the Internet at: http://www.or.blm.gov/surveyandmanage/.

Amended Notices

EIS No. 030429, Draft EIS, FHW, TN, Appalachian Development Highway System Corridor K (Relocated Highway U.S. 64), Improvements from West of the Ocoee River to TN-68 near Ducktown, Funding, U.S. Army Corps Section 10 and 404 Permits, Polk County, TN, Comment Period Ends: February 16, 2004, Contact: Bobby W. Blackmon (615) 781-5770. Revision of FR Notice Published on 10/03/2003: CEQ Comment Period Ending on 01/15/2004 has been Extended to 2/16/2004.

EIS No. 0230544, Draft EIS, AFS, AZ, Bar T Bar Anderson Springs Allotment Management Plans, To Authorize Permitted Livestock Grazing for a 10-Year Period, Coconino National Forest, Mogollon Rim and Mormon Lake Ranger District, Coconino County, AZ, Comment Period Ends: February 4, 2004, Contact: Jerry Gonzales (928) 354-2216. Revision of FR Notice Published on 12/05/03: CEQ Comment Period Ending 01/24/2004 has been Extended to 02/04/2004.

EIS No. 030548, Final EIS, BLM, AZ, Dos Pobres/San Juan Mining Plan and Land Exchange, Implementation of two Open Pit Copper Mines and one Central Ore Facility, NPDES and COE Section 404 Permits, Graham County, AZ, Wait Period Ends: February 12, 2004, Contact: Scott Evans (928) 348-4400. Revision of FR Notice Published on 12/12/2004: CEQ Wait Period Ending 1/12/2004 has been Corrected to 2/12/2004.

Dated: January 20, 2004.
B. Katherine Biggs,
Associate Director, NEPA Compliance Division, Office of Federal Activities.

[FR Doc. 04-1485 Filed 1-22-04; 8:45 am]

BILLING CODE 6560-50-P